DEPARTMENT OF DEFENSE

Department of the Navy

[Docket ID: USN-2008-0053]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on October 31, 2008 unless comments are received which result in a contrary determination.

ADDRESSES: Send comments to the Department of the Navy, PA/FOIA Policy Branch, Head of Naval Operations (DNS-36), 2000 Navy Pentagon, Washington, DC 20350-2000.

FOR FURTHER INFORMATION CONTACT: Ms. Miriam Brown-Lam (202) 685-6545.

SUPPLEMENTARY INFORMATION: The Department of the Navy systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 23, 2008.
Patricia L. Toppings,
OSD Federal Register Liaison Officer, Department of Defense.

NM05512-1

System name:

Vehicle Parking Permit and License Control System (April 10, 2008, 73 FR 19482).

Changes:

* * * * *

Categories of individuals covered by the system:

Delete entry and replace with “Individuals who apply for parking or who have registered their vehicles, boats, or trailers at a Navy, Marine Corps, Pacific Command, or Joint Forces Command installation; individuals who have applied for a Government Motor Vehicle Operator's license; and individuals who possess a Government Motor Vehicle Operator's license with authority to operate government vehicles. Individuals who have completed an approved DoD motorcycle safety course (e.g., basic rider course (BRC), experienced rider course (ERC) or military sport bike course (MSBC).”

Categories of records in the system:

Delete entry and replace with “File contains records of each individual who has registered a vehicle on the installation concerned to include parking permit information, decal data, insurance information, state of registration and identification. Applications may contain such information as name, date of birth, Social Security Number (SSN), Driver's license information (i.e., height, weight, hair and eye color), place of employment, driving record, Military I.D. information, etc. File also contains records/notations of traffic violations, citations, suspensions, applications for government vehicle operator's I.D. card, operator qualifications and record licensing examination and performance, record of failures to qualify for a Government Motor Vehicle Operator's permit, record of government motor vehicle and other vehicle's accidents, and information on student driver training.

File also contains motorcycle operator's name, place of employment and the type/date of motorcycle safety course completion.”

* * * * *

NM05512-1

System name:

Vehicle Parking Permit and License Control System.

System location:

Organizational elements of the Department of the Navy. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Individuals who apply for parking or who have registered their vehicles, boats, or trailers at a Navy, Marine Corps, Pacific Command, or Joint Forces Command installation; individuals who have applied for a Government Motor Vehicle Operator's license; and individuals who possess a Government Motor Vehicle Operator's license with authority to operate government vehicles. Individuals who have completed an approved DoD motorcycle safety course (e.g., basic rider course (BRC), experienced rider course (ERC) or military sport bike course (MSBC).

Categories of records in the system:

File contains records of each individual who has registered a vehicle on the installation concerned to include parking permit information, decal data, insurance information, state of registration and identification. Applications may contain such information as name, date of birth, Social Security Number (SSN), Driver's license information (i.e., height, weight, hair and eye color), place of employment, driving record, Military I.D. information, etc. File also contains records/notations of traffic violations, citations, suspensions, applications for government vehicle operator's I.D. card, operator qualifications and record licensing examination and performance, record of failures to qualify for a Government Motor Vehicle Operator's permit, record of government motor vehicle and other vehicle's accidents, and information on student driver training.

File also contains motorcycle operator's name, place of employment and the type/date of motorcycle safety course completion.

Authority for maintenance of the system:

10 U.S.C. 5013, Secretary of the Navy; 10 U.S.C. 5041, Headquarters, Marine Corps; and E.O. 9397 (SSN).

Purpose(s):

To track the issuance of parking permits and to provide a record of each individual who has registered a vehicle at an installation to include a record on individuals authorized to operate official government vehicles.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and automated records.

Retrievability:

Individual's name, Social Security Number (SSN), state license plate number, case number, and organization.

Safeguards:

Limited access provided on a need-to-know basis only. Information maintained on computers is password protected. Files maintained in locked and/or guarded office.

Retention and disposal:

Records are maintained for one year after transfer or separation from the installation concerned. Paper records are then destroyed and records on magnetic tapes erased.

System manager(s) and address:

Commanding officer of the activity in question. Official mailing addresses are published in the Standard Navy Distribution List that is available at http://doni.daps.dla.mil/sndl.aspx.

Notification procedure:

Individuals seeking to determine whether this system of records contains information about themselves should address written inquiries to the Commanding Officer or head of the activity where assigned. Official mailing addresses are published in the Standard Navy Distribution List that is available at http://doni.daps.dla.mil/sndl.aspx.

Written requests should contain the individual's full name, Social Security Number (SSN), and the request must be signed.

Record access procedures:

Individuals seeking access to records about themselves should address written inquiries to the Commanding Officer or head of the activity where assigned. Official mailing addresses are published in the Standard Navy Distribution List that is available at http://doni.daps.dla.mil/sndl.aspx.

Written requests should contain the individual's full name, Social Security Number (SSN), and the request must be signed.

Contesting record procedures:

The Navy's rules for accessing records, and for contesting contents and appealing initial agency determinations are published in Secretary of the Navy Instruction 5211.5; 32 CFR part 701; or may be obtained from the system manager.

Record source categories:

Individual concerned, driving record, insurance papers, activity correspondence, investigators reports, and witness statements.

Exemptions claimed for the system:

None.

[FR Doc. E8-23022 Filed 9-30-08; 8:45 am]

BILLING CODE 5001-06-P